DEPARTMENT OF AGRICULTURE

Food Safety and Inspection Service

[Docket No. FSIS-2009-0033]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2009, to May 31, 2010, and June 1, 2010, to May 31, 2011, seeks comments on standards under consideration and recommendations for new standards.

ADDRESSES: Comments may be submitted by either of the following methods:

• Federal eRulemaking Portal: This Web site provides the ability to type short comments directly into the comment field on this Web page or attach a file for lengthier comments. Go to http://www.regulations.gov. Follow the online instructions at that site for submitting comments.

• Mail, including diskettes or CD-ROMs, and hand- or courier-delivered items: Send to Docket Clerk, U.S. Department of Agriculture, Food Safety and Inspection Service, Room 2-2127, George Washington Carver Center, 5601 Sunnyside Avenue, Beltsville, MD 20705.

Instructions: All items submitted by mail or electronic mail must include the Agency name and docket number FSIS-2009-0033. Comments received in response to this docket will be made available for public inspection and posted without change, including any personal information, to http://www.regulations.gov.

Docket: For access to comments received, go to the FSIS Docket Room at the address listed above between 8:30 a.m. and 4:30 p.m., Monday through Friday.

Please state that your comments refer to Codex and, if your comments relate to specific Codex committees, please identify those committees in your comments and submit a copy of your comments to the delegate from that particular committee.

FOR FURTHER INFORMATION CONTACT: Karen Stuck, United States Manager for Codex, U.S. Department of Agriculture, Office of Food Safety, Room 4861, South Agriculture Building, 1400 Independence Avenue, SW., Washington, DC 20250-3700; Phone: (202) 205-7760; Fax: (202) 720-3157; E-mail: USCodex@fsis.usda.gov.

For information pertaining to particular committees, the delegate of that committee may be contacted. (A complete list of U.S. delegates and alternate delegates can be found in Attachment 2 to this notice.) Documents pertaining to Codex are accessible via the World Wide Web at the following address: http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two U.N. organizations, the Food and Agriculture Organization (FAO) and the World Health Organization (WHO). Codex is the principal international organization for establishing standards for food. Through adoption of food standards, codes of practice, and other guidelines developed by its committees and by promoting their adoption and implementation by governments, Codex seeks to protect the health of consumers, ensure fair trade practices in the food trade, and promote coordination of food standards work undertaken by international governmental and non-governmental organizations. In the United States, the United States Department of Agriculture (USDA); the Food and Drug Administration (FDA), Department of Health and Human Services (HHS); the National Oceanic and Atmospheric Association (NOAA), Department of Commerce (DOC); and the Environmental Protection Agency (EPA) manage and carry out U.S. Codex activities.

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To obtain copies of those standards listed in attachment 1, please contact the Codex delegate or the U.S. Codex office:

This notice also solicits public comment on those standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. Please visit the Web page or notify the appropriate U.S. delegate or the U.S. Codex Office, Room 4861, South Agriculture Building, 1400 Independence Avenue, SW., Washington, DC 20250-3700 (uscodex@fsis.usda.gov), if you would like to access or receive information about specific committees.

The information provided in Attachment 1 describes the status of Codex standard-setting activities by the Codex Committees for the time periods from June 1, 2009, to May 31, 2010, and June 1, 2010, to May 31, 2011. Attachment 2 provides the list of U.S. Codex Officials (including U.S. delegates and alternate delegates). A list of forthcoming Codex sessions may be found at: http://www.codexalimentarius.net/web/current.jsp?lang=en.

Additional Public Notification

Public awareness of all segments of rulemaking and policy development is important. Consequently, in an effort to ensure that minorities, women, and persons with disabilities are aware of this notice, FSIS will announce it online through the FSIS Web page located at http://www.fsis.usda.gov/regulations/2010_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included.

The Update is also available on the FSIS Web page. Through the Listserv and Web page, FSIS is able to provide information to a much broader and more diverse audience.

Dated: Done at Washington, DC on May 28, 2010.
Karen Stuck,
United States Manager for Codex.

Sanitary and Phytosanitary Activities of Codex Codex Alimentarius Commission and Executive Committee

The Codex Alimentarius Commission will hold its Thirty Third Session July 5-9, 2010, in Geneva, Switzerland. At that time, it will consider standards, codes of practice, and related matters forwarded to the Commission by the general subject committees, commodity committees, and ad hoc Task Forces for adoption as Codex standards and guidance. The Commission will also consider the implementation status of the Codex Strategic Plan, the evaluation of the capacity of the Secretariat, the impact of private standards, the management of the Trust Fund for the Participation of Developing Countries and Countries in Transition in the Work of the Codex Alimentarius, as well as financial and budgetary issues. At this Session, the Commission will elect a chairperson and three vice chairpersons.

Prior to the Commission meeting, the Executive Committee will meet at its Sixty-fourth Session on June 29-July 2, 2010. It is composed of the chairperson; vice-chairpersons; seven members elected from the Commission from each of the following geographic regions: Africa, Asia, Europe, Latin America and the Caribbean, Near East, North America, and South-West Pacific; and regional coordinators from the six regional committees. The United States is the elected representative from North America. The Executive Committee will conduct a critical review of the elaboration of Codex standards; review a study on the speed of the Codex standard-setting process, consider the Codex Strategic Plan and the capacity of the Secretariat; consider a business plan for Codex; review matters arising from reports of Codex Committees and proposals for new work, and review the FAO/WHO Trust Fund for Enhanced Participation in Codex.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to a food producing animal, such as meat or milk producing animals, poultry, fish or bees, whether used for therapeutic, prophylactic or diagnostic purposes, or for modification of physiological functions or behavior.

A Codex Maximum Limit for Residues of Veterinary Drugs is the maximum concentration of residue resulting from the use of a veterinary drug (expressed in mg/kg or ug/kg on a fresh weight basis) that is recommended by the Codex Alimentarius Commission to be permitted or recognized as acceptable in or on a food. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with good practices in the use of veterinary drugs and to the extent that practical analytical methods are available.

An Acceptable Daily Intake (ADI) is an estimate by the Joint FAO/WHO Expert Committee on Food Additives (JECFA) of the amount of a veterinary drug, expressed on a body weight basis, which can be ingested daily over a lifetime without appreciable health risk.

The 18th Session of the Committee met in Natal, Brazil, on May 11-15, 2009. The reference document is ALINORM 9/32/31. The results of the 18th session of the CCRVDF were considered by the Commission at its 32nd Session in July 2009. The reference document is ALINORM 09-32-REP. A meeting of the CCRVDF has not occurred since the last session of the Commission. The following items will be considered at the 33rd session of the Commission in July 2010.

To be considered for final adoption at Step 8:

• Draft MRL for Bovine Somatotropin in cattle.

• Draft MRLs for Ractopamine in pigs and cattle.

At the 18th session of the CCRVDF, the Committee completed a Priority List of Veterinary Drugs Requiring Evaluation or Re-evaluation by JECFA. These drugs are Monepantel (establishment of ADI and recommended MRLs in sheep), Monensin (re-evaluation of MRL in cattle), Derquantel (establishment of ADI and recommended MRLs in sheep), and Ractopamine (review of depletion data in pig tissues). The JECFA is currently evaluating the data for Ractopamine and will report the results of its evaluation to the 33rd session of the Commission.

The Committee will continue work on the following:

• Draft MRLs for Narasin in cattle and pigs.

• Draft MRLs for Tilmicosin in chicken and turkeys.

• A project document on risk management recommendations for veterinary drugs for which no ADI or MRL has been recommended by JECFA. The United States leads an electronic Working Group to define the scope for the work.

Responsible Agencies: HHS/FDA/CVM; USDA/FSIS.

U.S. Participation: Yes.

Codex Committee on Contaminants in Foods

The Codex Committee on Contaminants in Foods (CCCF) establishes or endorses permitted maximum levels, and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Fourth Session in Izmir, Turkey, from April 26-30, 2010. The relevant document is ALINORM 10/34/31. The following items are to be considered for adoption at Step 5/8 by the 33rd Session of the Commission in July 2010:

• Proposed draft maximum levels for Melamine in powdered infant formula and in food (other than infant formula) and feed

• Proposed draft maximum levels for total Aflatoxins in shelled, ready-to-eat Brazil nuts and shelled, destined for further processing Brazil nuts (including sampling plan)

• Proposed draft revision of the Code of Practice for the Prevention and Reduction of Aflatoxin Contamination (Tree Nuts) (appendix on Additional Measures for Brazil Nuts)

The Committee is continuing to work on:

• Proposed draft Code of Practice for the Reduction of Ethyl Carbamate in Stone Fruit Distillates, which was returned to Step 3 for further comments.

• Proposed draft maximum level for Melamine in liquid infant formula at Step 3.

• Discussion paper on Types of Mycotoxins and Mycotoxin-Producing Fungi found in Sorghum and the Levels of Mycotoxins in Sorghum.

The Committee agreed to the following new work, pending approval by the Executive Committee:

• Draft maximum levels for Deoxynivalenol (DON) and its acetylated derivatives in cereals and cereal-based products (Canada).

• Draft maximum levels for total Aflatoxins in dried figs (Turkey).

The Committee agreed to establish the following electronic working groups to:

• Develop recommended MLs for substances in natural mineral waters and determine whether safety parameters should be integrated into the General Standard for Contaminants and Toxins in Food and Feed (GSCTFF) or retained in the standard for Natural Mineral Waters (United States and The Netherlands).

• Prepare a discussion paper that would review the current state of knowledge regarding Arsenic and provide a summary of possible risk management options including the feasibility of setting MLs in rice for consideration at the next session (China).

• Prepare a discussion paper concerning risk management options in relation to new risk assessment outcomes (United States).

• Prepare a discussion paper on the occurrence of ochratoxigenic fungi and Ochratoxin A (OTA) in cocoa to assess whether a code of practice should be developed (Ghana and Brazil).

• Prepare a discussion paper to conduct a review of furan exposure, its toxicities, and available technologies to reduce Furan in foods with a view to exploring the possibility of developing a code of practice (United States).

• Prepare a discussion paper to examine the chemistry of pyrrolizidine alkaloids, their toxicity; available methods of analysis for detecting pyrrolizidine alkaloids; occurrence in plants, food and feed; and the carry-over from feed to food (The Netherlands).

• Proposals on descriptions of the food/feed for which a maximum level applies and to screen the existing MS and provide, where necessary, a clearer description of the food/feed to which the ML applies (European Union).

The Committee decided to suspend work on the proposed draft ML and sampling plans for Fumonisins in Maize and Maize-products until further advice was provided by JECFA.

Responsible Agencies: HHS/FDA; USDA/FSIS.

U.S. Participation: Yes.

Codex Committee on Food Additives

The Codex Committee on Food Additives (CCFA) establishes or endorses acceptable maximum levels for individual food additives; prepares a priority list of food additives for risk assessment by the Joint FAO/WHO Expert Committee on Food Additives (JECFA); assigns functional classes to individual food additives; recommends specifications of identity and purity for food additives for adoption by the Commission; considers methods of analysis for the determination of additives in food; and considers and elaborates standards or codes for related subjects such as the labeling of food additives when sold as such. The 42nd Session of the Committee met in Beijing, China, March 15-19, 2010. The relevant document is ALINORM 10/33/12. Immediately prior to the Plenary session, there was a 1-day physical Working Group on the General Standard for Food Additives (GSFA) chaired by the United States. The following items will be considered by the 33rd Session of the Commission in July 2010.

To be considered for adoption at Steps 8 and 5/8:

• Draft and proposed draft food additive provisions and amendments to the GSFA.

• Proposed draft Guidelines on Substances Used as Processing Aids (N14-2008).

• Amendments to the International Numbering System (INS) for Food Additives.

• Specifications for the Identify and Purity of Food Additives arising from the 71st JECFA meeting.

Other matters to be considered for adoption:

• Amendments to revise the name and descriptors of food categories 06.0, 06.2, and 06.2.1 (concerning cereals and flours) of the GSFA.

• Deletion of Note 180 (“Expressed as beta-carotene.”) in all adopted and proposed provisions for Carotenoids, and Carotene, beta- (vegetable), beta-(vegetable) of the GSFA.

• Amendment to the provision of Ascorbyl Esters in food category 13.2 (Complementary foods for infants and young children) of the GSFA.

• Amendments associated with Notes 130 and 133 to correct inconsistencies related to the provisions phenolic antioxidants (butylated hydroxyanisole, butylated hydroxytoluene, propyl gallate, and tertiary butylhydroquinone).

• Amendment to the text of Note 136 (“For use in white vegetables only.”) associated with certain provisions for Sulfites.

• Amendment to Section 2 “Table of functional classes, definitions and technological purposes” of the INS (CAC/GL 36-1989).

To be considered for revocation:

• Food additive provisions of the GSFA.

• Inventory of Processing Aids (CAC/MISC 3).

To be considered for discontinuation:

• Several draft and proposed draft food additive provisions of the GSFA.

To be considered for approval:

• Project document proposing new work on the revision of the food category system of the GSFA.

• Project document proposing new work on the revision of Standard for Food Grade Salt (CODEX STAN 150-1985).

• Priority list of compounds proposed for evaluation by JECFA.

The Committee established electronic Working Groups (eWGs) to:

• Review Section 4 of the Preamble of the GSFA (Carry-over of Food Additives into Food) with the view to analyze inconsistencies between this Section and the “Carry-over Principle” in Volume 1 of the Codex Alimentarius and to consider the need to revise Section 4 of the Preamble to the GSFA (Brazil).

• Prepare proposed draft provisions for lauric arginate ethyl esters, steviol glycosides, and sulfites. This eWG would also prepare recommendations for all provisions of erythrosine (United States).

• Prepare a discussion paper containing proposals for criteria and conditions on the use of Note 161 (“Subject of national legislation of the importing country aimed, in particular, at consistency with Section 3.2 of the Preamble.”) in the GSFA (Netherlands).

• Prepare a discussion paper on the structure and content of a database on information on processing aids and criteria for the data entry and update of the database (New Zealand).

• Consider proposals for changes and additions to the INS list, including the inconsistent use of brackets in the names of substances, whether the substances listed under INS 470(i) should include magnesium salts, whether technological purposes should be listed for so-called “parent food additives,” and the use of the term “caustic” for INS 150a and 150b (Finland).

• Review all comments and information submitted and revise the maximum use levels for aluminum-containing food additives in the GSFA to ensure that the maximum use levels are numeric and expressed on an “as aluminum” basis (Brazil).

• Prepare a proposal for the revision of food categories 05.1 (Cocoa products and chocolate products including imitation and chocolate substitutes), 05.2 (Confectionery, including hard and soft candy, nougats, etc., other than food categories 05.1, 05.3, and 05.4), and 05.4 (Decorations (e.g., for fine bakery wares), toppings (non-fruit), and sweet sauces) (United States).

• Prepare a discussion paper with a proposal for the alignment of the food additive provision in the five Codex standards for meat products with the provisions in the GSFA and an analysis of the problems and solutions identified in carrying out this work (Australia).

The Committee also agreed to prepare a discussion paper on the development of a proposal for a re-evaluation process of substances in light of new data and new scientific developments in risk assessment (JECFA Secretariat).

Responsible Agency: HHS/FDA.

U.S. Participation: Yes.

Codex Committee on Pesticide Residues

The Codex Committee on Pesticide Residues recommends to the Codex Alimentarius Commission establishment of maximum limits for pesticide residues for specific food items or in groups of food. A Codex Maximum Residue Limit for Pesticide (MRLP) is the maximum concentration of a pesticide residue (expressed as mg/kg) recommended by the Codex Alimentarius Commission to be legally permitted in or on food commodities and animal feeds. Foods derived from commodities that comply with the respective MRLPs are intended to be toxicologically acceptable. That is, consideration of the various dietary residue intake estimates and determinations, both at the national and international level, in comparison with the Acceptable Daily Intake (ADI), should indicate that foods complying with Codex MRLPs are safe for human consumption. Codex MRLPs are primarily intended to apply in international trade and are derived from reviews conducted by the Joint Meeting on Pesticide Residues (JMPR).

The 41st Session of the Committee met in Beijing, China, on April 19-24, 2010. The relevant document is ALINORM 10/33/24. The following items will be considered by the Commission at its 33nd Session in July 2010.

To be considered for adoption at Step 8:

• Draft and revised draft Maximum Residue Limits for pesticide/commodity combinations: Boscalid (1 commodity), Carbofuran (4), Carbosulfan (4), and Methomyl (1)

To be considered at Step 5/8:

• Proposed draft and revised draft Maximum Residue Limits for pesticide/commodity combinations: Benalaxyl (7 commodities), Boscalid (35), Buprofezin (18), Chlorpyrifos-Methyl (10), Cypermethrin (including alpha- and zeta-cypermethrin) (8), Febuconazole (5), Fluopicolide (17), Haloxyfop (4), Hexythiazox (20), Indoxacarb (13), Metaflumizone (12), Methoxyfenozide (23), Paraquat (2), Prochloraz (1), Prothioconazole (10), Spirodiclofen (20), and zoxamide (14) (see ALINORM 10/33/24, appendices II & III for lists of the commodities).

Responsible Agencies: EPA; USDA/AMS.

U.S. Participation: Yes.

Codex Committee on Methods of Analysis and Sampling

The Codex Committee on Methods of Analysis and Sampling defines the criteria appropriate to Codex methods of analysis and sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 31st Session of the Committee met in Budapest, Hungary, March 8-12, 2010. The relevant document is ALINORM 10/33/23. The following items will be considered for adoption by the 32nd Session of the Commission in July 2010.

To be considered for final adoption at step 5/8:

• Proposed draft Guidelines on Performance Criteria and Validation of Methods for Detection, Identification, and Quantification of Specific DNA Sequences and Specific Proteins in Foods.

• Methods of Analysis in Codex Standards at Different Steps, including Methods of Analysis for Natural Mineral Waters.

To be considered for final adoption at step 5:

• Proposed draft Revised Guidelines for Measurement Uncertainty.

The Committee agreed to establish an electronic working group to develop a discussion paper on Procedures for Conformity Assessment and Resolution of Disputes, Taking into Account Measurement Uncertainty, Sampling Uncertainty and Other Relevant Issues.

Responsible Agencies: HHS/FDA; USDA/GIPSA.

U.S. Participation: Yes.

Codex Committee on Food Import and Export Inspection and Certification Systems

The Codex Committee on Food Import and Export Inspection and Certification Systems is charged with developing principles and guidelines for food import and export inspection and certification systems, with a view to harmonizing methods and procedures that protect the health of consumers, ensure fair trading practices, and facilitate international trade in foodstuffs. Additionally, the Committee develops principles and guidelines for the application of measures by the competent authorities of exporting and importing countries to provide assurances, where necessary, that foodstuffs comply with requirements, especially statutory health requirements; develops guidelines for the utilization, as and when appropriate, of quality assurance systems to ensure that foodstuffs conform with requirements and promotes the recognition of these systems in facilitating trade in food products under bilateral/multilateral arrangements by countries; develops guidelines and criteria with respect to format, declarations, and language of such official certificates as countries may require with a view towards international harmonization; makes recommendations for information exchange in relation to food import/export control; consults as necessary with other international groups working on matters related to food inspection and certification systems; and considers other matters assigned to it by the Commission in relation to food inspection and certification systems.

The 18th Session of the Committee met in Surfers Paradise, Australia, on March 1-5, 2010. The reference document is ALINORM 10/33/30. The following will be considered by the Commission at its 33rd Session in July 2010.

To be considered for final adoption at step 5/8:

• Proposed draft Principles and Guidelines for the Conduct of Foreign On-site Audits and Inspections.

The Committee will continue working on:

• Proposed draft Principles and Guidelines for the Conduct of Assessments of Foreign Official Inspection and Certification Systems.

Responsible Agencies: HHS/FDA; USDA/FSIS.

U.S. Participation: Yes.

Codex Committee on General Principles

The Codex Committee on General Principles deals with procedures and general matters as are referred to it by the Codex Alimentarius Commission. Such matters have included the review and endorsement of procedural revisions to the Codex Procedural Manual; the development of a mechanism for examining any economic impact statements submitted by governments concerning possible implications for their economies of some of the individual standards or some of the provisions thereof; and the establishment of a Code of Ethics for International Trade in Food.

The Committee held its 26th Session in Paris, France, on April 12-16, 2010. The reference document is ALINORM 10/33/33. The following will be considered by the Commission at its 33rd Session in July 2010:

To be considered for final adoption at Step 8:

• Draft revised Code of Ethics for International Trade in Food including Concessional and Food Aid Transactions Amendments to the Codex Procedural Manual.

• Proposed amendment to the Guidelines to Chairpersons of Codex Committees and Ad Hoc Intergovernmental Task Forces.

• Proposed amendment to the Guidelines to Host Governments of Codex Committees and Ad Hoc Intergovernmental Task Forces.

Responsible Agencies: USDA/FSIS; HHS/FDA.

U.S. Participation: Yes.

Codex Committee on Food Labeling

The Codex Committee on Food Labeling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee held its 38th Session in Quebec City, Canada, on May 3-7, 2010. The reference document is ALINORM 10/33/22. The following items are to be considered by the 32nd Session of the Commission in July 2010.

To be considered at Step 5/8:

• Proposed draft Criteria/Principles for Legibility of Nutrition Labels.

• Editorial amendments to several standards, specifically:

• Section 4.2.3.3 of the General Standard for the Labeling of and Claims for Prepackaged Foods (Codex Standard 1-1985) with the Codex International Numbering System in CAC/GL 36-1989.

• Editorial amendments to the Guidelines on Nutrition and Health Claims (CAC/GL23-1997).

• Editorial amendments to guidelines for the production, processing, labeling and marketing of organically produced foods (CAC/GL 32-1999 (-(other uses of ethylene).

The Committee will continue to work on:

• Proposed draft revision of the Guidelines on Nutrition Labeling (CAC/GL 2-1985) concerning the list of nutrients that are Always Declared on a Voluntary or Mandatory Basis (at Step 5 of the procedure).

• Proposed draft recommendations for the labeling of foods obtained through certain techniques of genetic modification/genetic engineering (at Step 3 of the procedure).

• Draft amendment to the General Standard for the Labeling of Prepackaged Foods (at Step 6).

• Codex Standard (1-1985): Definitions for “food and food ingredients obtained through certain techniques of genetic modification/genetic engineering,” “Organism,” “Genetically modified/engineered organism,” and “Modern biotechnology” (at Step 6).

• Draft amendment to the Guidelines for the Production, Processing, Labeling and Marketing of Organically Produced Food (CAC/GL 32-1999), Section 5.1 relating to other uses of ethylene (at Step 7).

Responsible Agencies: HHS/FDA; USDA/FSIS.

U.S. Participation: Yes.

Codex Committee on Food Hygiene

The Codex Committee on Food Hygiene (CCFH) develops basic provisions on food hygiene applicable to all food; considers, amends if necessary, and endorses provisions on food hygiene prepared by Codex commodity committees and contained in Codex commodity standards; considers, amends if necessary, and endorses (unless otherwise directed by the Codex Alimentarius Commission) provisions on food hygiene prepared by Codex commodity committees and contained in Codex codes of practice; develops provisions on food hygiene applicable to specific food items or food groups, whether coming within the terms of reference of a Codex commodity committee or not; considers specific food hygiene problems assigned to it by the Commission; suggests and prioritizes areas where there is a need for microbiological risk assessment at the international level and develops questions to be addressed by the risk assessors; and considers microbiological risk management matters in relation to food hygiene and in relation to FAO/WHO risk assessments.

The 41st Session of the CCFH met in San Diego, California, on November 16-20, 2009, and is summarized in the report number ALNORM 10/33/13. The following items related to the activities of the CCFH will be considered by the Commission at its 33rd Session in July 2010.

The following documents will be considered for final adoption at Step 5/8:

• Proposed draft Annex on Leafy Green Vegetables Including Leafy Herbs to the Code of Hygienic Practice for Fresh Fruits and Vegetables.

• Proposed draft Code of Hygienic Practice for Pathogenic Vibrio spp. in Seafood.

• Proposed draft Annex on Control Measures for Vibrio parahaemolyticus and Vibrio vulnificus in Molluscan Shellfish.

The following document will be considered for adoption and inclusion in the Codex Alimentarius Procedural Manual:

• Proposed draft Risk Analysis Principles and Procedures Applied by the Codex Committee on Food Hygiene.

CCFH continues to work on the following documents:

• Proposed draft Guidelines for the Control of Campylobacter and Salmonella spp. in Chicken Meat.

• Proposed draft Code of Hygienic Practice for Control of Viruses in Food.

New work agreed to at the 41st session of CCFH includes the following:

• Proposed revision of the Recommended International Code of Hygienic Practice for Collecting, Processing and Marketing of Natural Mineral Waters.

• Proposed revision of Principles for the Establishment and Application of Microbiological Criteria for Foods.

Responsible Agencies: HHS/FDA; USDA/FSIS.

U.S. Participation: Yes.

Codex Committee on Fresh Fruits and Vegetables

The Codex Committee on Fresh Fruits and Vegetables is responsible for elaborating worldwide standards and codes of practice for fresh fruits and vegetables; and for consulting with the UNECE Working Party on Agricultural Quality Standards to elaborate worldwide standards and codes of practice with particular regard to ensuring that there is no duplication of standards or codes of practice and that they follow the same broad format.

The Committee held its 15th Session in Mexico City, Mexico, on October 19-23, 2009. The reference document is ALINORM 10/33/35. The following will be considered by the Commission at its 33rd Session in July 2010.

To be considered at step 8:

• Draft Section 6 “Marking or Labeling” (Draft Standard for Bitter Cassava).

• Draft Standard for Apples.

To be considered at step 5:

• Proposed draft revision of the Standard for Avocados.

• Proposed draft Standard for Tree Tomatoes.

The Committee will continue working on:

• Proposed draft Standard for Chili Peppers.

• Proposed draft Standard for Pomegranate.

• Proposed Layout for Codex Standards for Fresh Fruits and Vegetables.

• Glossary of Terms used in the Proposed Layout for Codex Standards for Fresh Fruits and Vegetables.

• Proposals for new work on fresh fruits and vegetables.

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines or related texts for foods for special dietary uses, in cooperation with other committees where necessary; considers, amends if necessary, and endorses provisions on nutritional aspects proposed for inclusion in Codex standards, guidelines and related texts.

The Committee held its 31st Session in Düsseldorf, Germany, on November 2-6, 2009. The reference document is ALINORM 10/33/26. An additional reference for dietary fibre methods of analysis is the report of the 31st Session of the Codex Committee on Methods of Analysis and Sampling (ALINORM 10/33/23). The following items will be considered by the Commission at its 33rd Session in July 2010.

To be considered for final adoption at Step 8:

• List of Methods for Dietary Fibre.

To be reviewed at Step 5:

• The General Principles for Establishing Nutrient Reference Values of Vitamins and Minerals for the General Population.

The Committee will continue work on:

• Proposed draft Additional or Revised Nutrient Reference Values for Labeling Purposes in the Codex Guidelines on Nutrition Labeling.

• A revised document on General Principles and Criteria for the Development of Nutrient Reference Values for Nutrients Associated with Risk of Diet-Related Non-communicable Diseases.

• A revised document to amend the Codex General Principles for the Addition of Essential Nutrients to Foods.

• A revised document to revise the Codex Guidelines on Formulated Supplementary Foods for Older Infants and Young Children.

• A revised discussion paper on the Proposal for New Work to Establish a Standard for Processed Cereal-Based Foods for Underweight Infant and Young Children.

Responsible Agencies: HHS/FDA; USDA/ARS.

U.S. Participation: Yes.

Codex Committee on Fish and Fishery Products

The Fish and Fishery Products Committee is responsible for elaborating standards for fresh, frozen and otherwise processed fish, crustaceans, and mollusks. The 33rd Session of the Committee met in Agadir, Morocco, September 28-October 2, 2009. The relevant document is ALINORM 10/33/18. The following items will be considered by the Commission at its 33rd Session in July 2010.

To be considered for final adoption at Step 8:

• Draft Code of Practice for Fish and Fishery Products (Lobsters and Crabs and relevant Definitions).

• Draft Standard Sturgeon Caviar.

• Amendment of Section 2.1 General Definitions in the Code of Practice for Fish and Fishery Products.

To be reviewed at Step 5:

• Proposed draft Standard for Smoked Fish, Smoke-Flavoured Fish and Smoke-Dried Fish.

• Proposed draft Standard for Fish Sauce.

The Committee will continue working on:

• Proposed draft Code of Practice for the Processing of Scallop Meat.

• Proposed draft amendment to Section 3.4.5.1 (Water) of the Code of Practice for Fish and Fishery Products.

• Proposed draft Standard for Quick Frozen Scallop Adductor Muscle Meat.

• Proposed draft revision of the Procedure for the Inclusion of Additional Species in Standards for Fish and Fishery Products.

• Draft List of Methods for the Determination of Biotoxins in the Standard for Raw and Live Bivalve Molluscs.

• Proposed draft Code of Practice for Fish and Fishery Products (Other sections including smoked fish).

• Proposed draft Standard for Fresh/Live and Frozen Abalone (Haliotis spp.)

• Amendment to the Standard for Quick Frozen Fish Sticks (Nitrogen Factors).

• Food Additive Provisions in Standards for Fish and Fishery Products.

Responsible Agencies: HHS/FDA; USDC/NOAA/NMFS.

U.S. Participation: Yes.

Codex Committee on Milk and Milk Products

The Codex Committee on Milk and Milk Products is responsible for establishing international codes and standards for milk and milk products.

The 9th Session of the CCMMP met in Auckland, New Zealand, on February 1-5, 2010. The reference document is ALINORM 10/33/11. The following items related to the activities of the CCMMP will be considered for adoption by the Commission at its 33rd Session in July 2010.

• Methods of Analysis and Sampling for Milk and Milk Products Standards, including AOAC standards.

• Revised Food Additive Listings of Standards for Milk and Milk Products.

• Revised Model Export Model Certificate for Milk and Milk Product.

• Proposed draft amendment to the Codex Standard for Fermented Milks pertaining to Drinks based on Fermented Milk (CODEX STAN 243-2003).

The Committee completed the work assigned to it by the Commission and is proposing to the Commission to adjourn sine die until such time as the Commission would require it to take new work.

Responsible Agencies: USDA/AMS; HHS/FDA.

U.S. Participation: Yes.

Codex Committee on Fats and Oils

The Codex Committee on Fats and Oils is responsible for elaborating standards for fats and oils of animal, vegetable, and marine origin. The Committee held its 21st Session in Kota Kinabalu, Malaysia, on February 16-20, 2009. The Committee has not met since the 2009 meeting of the Codex Commission. The Committee is working on:

• Proposed draft List of Acceptable Previous Cargoes.

• Proposed draft Criteria (Code of Practice for the Storage and Transport of Fats and Oils in Bulk).

• Proposed draft amendment to the Standard for Olive Oils and Olive Pomace Oils: Linolenic acid.

• Proposed draft amendments to the Standard for Named Vegetable Oils: Inclusion of palm kernel olein and palm kernel stearin.

Responsible Agencies: HHS/FDA; USDA/ARS.

U.S. Participation: Yes.

Codex Committee on Processed Fruits and Vegetables

The Codex Committee on Processed Fruits and Vegetables is responsible for elaborating worldwide standards for all types of processed fruits and vegetables including dried products, canned dried peas and beans, and jams and jellies (but not dried prunes or fruit and vegetable juices), as well as revision of standards for quick frozen fruits and vegetables.

The Committee held its 24th Session in Washington, DC, on September 15-20, 2008. The reference document is ALINORM 09/32/27. The Committee has not met since the 32nd Session of the Commission in 2009. The Committee will next meet October 25-29, 2010, in Depasar, Indonesia.

The Committee is continuing work on:

• Proposed Draft Annexes specific to Certain Canned Vegetables (Draft Codex Standard for Certain Canned Vegetables).

• Proposed Draft Sampling Plans including Metrological Provisions for Controlling Minimum Drained Weight of Canned Fruits and Vegetables in Packing Media.

• Methods of Analysis for Processed Fruits and Vegetables—Aqueous Coconut Products: Coconut Cream and Coconut Milk.

• Food Additive Provisions for Processed Fruits and Vegetables.

• Proposals for Amendments to the Priority List for Standardization of Processed Fruits and Vegetables.

• Revision of the Standard for Table Olives.

• Revision of the Standard for Grated Desiccated Coconut.

• Revision of the Standards for Canned Bamboo Shoots and Canned Mushrooms for inclusion as annexes to the Draft Standard for Certain Canned Vegetables.

Responsible Agencies: USDA/AMS; HHS/FDA.

U.S. Participation: Yes.

Certain Codex Commodity Committees

Several Codex Alimentarius Commodity Committees have adjourned sine die. The following Committees fall into this category:

• Natural Mineral Waters.

Responsible Agency: HHS/FDA.

U.S. Participation: Yes.

• Milk and Milk Products.

Responsible Agencies: USDA/AMS; HHS/FDA.

U.S. Participation: Yes.

• Cocoa Products and Chocolate.

Responsible Agency: HHS/FDA.

U.S. Participation: Yes.

• Meat Hygiene.

Responsible Agency: USDA/FSIS.

U.S. Participation: Yes.

• Sugars.

Responsible Agencies: USDA/ARS; HHS/FDA.

U.S. Participation: Yes.

• Vegetable Proteins.

Responsible Agencies: USDA/ARS; HHS/FDA.

U.S. Participation: Yes.

• Cereals, Pulses and Legumes.

Responsible Agencies: HHS/FDA; USDA/GIPSA.

U.S. Participation: Yes.

Ad Hoc Intergovernmental Task Force on Antimicrobial Resistance

The ad hoc Intergovernmental Task Force on Antimicrobial Resistance was created by the 29th Session of the Commission.

The Task Force, hosted by the Republic of Korea, has a time frame of four sessions, which started with its first meeting in October 2007. Its objective is to develop science-based guidance to be used to assess the risks to human health associated with the presence in food and feed, including aquaculture, and the transmission through food and feed of antimicrobial resistant microorganisms and antimicrobial resistance genes and to develop appropriate risk management advice based on that assessment to reduce such risk. In this process, work undertaken in this field at national, regional, and international levels should be taken into account.

The 3rd Session of the Task Force met in Jeju, Republic of Korea, on October 12-16, 2009. The relevant document is Alinorm 10/33/42.

The Task Force is continuing work on:

• Proposed draft Guidelines for Risk Analysis of Foodborne Antimicrobial Resistance.

Responsible Agencies: HHS/FDA; USDA/FSIS.

U.S. Participation: Yes.

FAO/WHO Regional Coordinating Committees

The FAO/WHO Regional Coordinating Committees define the problems and needs of each of the regions concerning food standards and food control; promote exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; promote coordination of all regional food standards work undertaken by international governmental and non-governmental organizations within each region; exercise a general coordinating role for each of the regions; and promote the use of Codex standards and related texts by members.

Coordinating Committee for Africa

The Committee (CCAfrica) held its 18th session in Accra, Ghana, from February 24-27, 2009. The relevant document is ALINORM 09/32/18. The Committee has not met since the 32nd Session of the Codex Alimentarius Commission in 2009.

Responsible Agency: USDA/FSIS.

U.S. Participation: Yes (as observer).

Coordinating Committee for Asia

The Committee (CCAsia) held its 16th session in Denpasar, Indonesia, from November 17-21, 2008. The relevant document is ALINORM 09/32/15. The Committee has not met since the 32nd Session of the Codex Alimentarius Commission in 2009. The Committee is continuing to work on:

• Proposed Draft Standard for Non-fermented Soybean Products.

• Proposed Draft Regional Standard for Chili Sauce.

• Discussion Paper on tempe and tempe products.

Responsible Agency: USDA/FSIS.

U.S. Participation: Yes (as observer).

Coordinating Committee for Europe

The Committee (CCEurope) held its 26th session in Warsaw, Poland, from October 7-10, 2008. The relevant document is ALINORM 09/32/19. The Committee has not met since the 32nd Session of the Codex Alimentarius Commission in 2009.

Responsible Agency: USDA/FSIS.

U.S. Participation: No.

Coordinating Committee for Latin America and the Caribbean

The Committee (CCLAC) held its 16th session in Acapulco, Mexico, from November 10-14, 2008. The relevant document is ALINORM 09/32/36. The Committee has not met since the 32nd Session of the Codex Alimentarius Commission in 2009. The Committee is continuing to work on:

• Regional Standards for Culantro and Lucuma.

• Regional Standard for Culantro Coyote.

Responsible Agency: USDA/FSIS.

U.S. Participation: Yes (as observer).

Coordinating Committee for the Near East

The Committee (CCNEA) held its 5th session in Tunis, Tunisia, from January 26-29, 2009. The relevant document is ALINORM 09/32/40. The Committee has not met since the 32nd Session of the Codex Alimentarius Commission in 2009. The Committee is continuing to work on:

• Proposed Draft Regional Code of Practice for Street-Vended Foods.

• Proposed Regional Standard for Harissa (hot pepper paste).

• Proposed Regional Standard for Halwa Tehenia (halwa shamia).

• Project Document for a Regional Standard for Camel Milk.

• Project Documents for Regional Standards for Date Paste and Date Molasses.

Responsible Agency: USDA/FSIS.

U.S. Participation: Yes (as observer).

Coordinating Committee for North America and the Southwest Pacific

The Committee (CCNASWP) held its 10th session in Nuku'alofa, Tonga, from October 28-31, 2008. The relevant document is ALINORM 09/32/32. The Committee has not met since the 32nd Session of the Codex Alimentarius Commission in 2009. The Committee continues to work on:

• Implementation of the Codex Strategic Plan and Adoption of the Regional Strategic Plan.

• Discussion Paper on Kava.

Responsible Agencies: HHS/FDA; USDA/FSIS.

U.S. Participation: Yes.

U.S. Codex Alimentarius Officials Codex Chairpersons From the United States Codex Committee on Food Hygiene

Emilio Esteban, DVM, MBA, MPVM, Ph.D., Scientific Advisor for Laboratory Services and Research, Office of Public Health Science, Food Safety and Inspection Service, U.S. Department of Agriculture, 950 College Station Road, Athens, GA 30605, Phone: (706) 546-3429, Fax: (706) 546-3428, E-mail: emilio.esteban@fsis.usda.gov.

Codex Committee on Processed Fruits and Vegetables

Richard Boyd, Head, Defense Contract Inspection Section, Processed Products Branch, Fruit and Vegetable Programs, Agricultural Marketing Service, U.S. Department of Agriculture, 1400 Independence Avenue, SW., Mail Stop 0247, Room 0726-South Building, Washington, DC 20250, Phone: (202) 720-5021, Fax: (202) 690-1527, E-mail: richard.boyd@usda.gov.

Codex Committee on Residues of Veterinary Drugs in Foods

Dr. Steven D. Vaughn, Director, Office of New Animal Drug Evaluation, Center for Veterinary Medicine, FDA, 7520 Standish Place, Rockville, MD 20855, Phone: (240) 276-8300, Fax: (240) 276-9538, E-mail: Steven.Vaughn@fda.hhs.gov.

Codex Committee on Cereals, Pulses and Legumes (adjourned sine die)

VACANT.

Listing of U.S. Delegates and Alternates Worldwide General Subject Codex Committees Codex Committee on Residues of Veterinary Drugs in Foods

(Host Government—United States)

U.S. Delegate

Dr. Kevin Greenlees, Senior Advisor for Science & Policy, Office of New Animal Drug Evaluation, HFV-100, USFDA Center for Veterinary Medicine, 7520 Standish Place, Rockville, MD 20855, Phone: (240) 276-8214, Fax: (240) 276-9538, E-mail: Kevin.Greenlees@fda.hhs.gov.

Alternate Delegate

Dr. Charles Pixley, Director, Laboratory Quality Assurance Division, Office of Public Health Science, Food Safety and Inspection Service, 950 College Station Road, Athens, GA 30605, Phone: (706) 546-3559, Fax: (706) 546-3452, E-mail: charles.pixley@fsis.usda.gov.

Codex Committee on Food Additives

(Host Government—China)

U.S. Delegate

Dennis M. Keefe, Ph.D., Office of Premarket Approval, Center for Food Safety and Applied Nutrition, Food and Drug Administration (HFS-200), Harvey W. Wiley Federal Building, 5100 Paint Branch Parkway, College Park, MD 20740-3835, Phone: (202) 418-3113, Fax: (202) 418-3131, E-mail: dennis.keefe@fda.hhs.gov.

Alternate Delegate

Susan E. Carberry, Ph.D., Supervisory Chemist, Division of Petition Review, Office of Food Additive Safety (HFS-265), Center for Food Safety and Applied Nutrition, Food and Drug Administration, 5100 Paint Branch Parkway, College Park, MD 20740, Phone: (301) 436-1269, Fax: (301) 436-2972, E-mail: Susan.Carberry@fda.hhs.gov.

Codex Committee on Contaminants in Foods

(Host Government—the Netherlands).

U.S. Delegate

Nega Beru, Ph.D., Director, Office of Plant and Dairy Foods (HFS-300), Center for Food Safety and Applied Nutrition, Food and Drug Administration, 5100 Paint Branch Parkway, College Park, MD 20740, Phone: (301) 436-1700, Fax: (301) 436-2651, E-mail: Nega.Beru@fda.hhs.gov.

Alternate Delegate

Kerry Dearfield, Ph.D., Scientific Advisor for Risk Assessment, Office of Public Health Science, Food Safety and Inspection Service, U.S. Department of Agriculture, 1400 Independence Avenue, SW., Room 380, Aerospace Center, Washington, DC 20250, Phone: (202) 690-6451, Fax: (202) 690-6337, E-mail: Kerry.Dearfield@fsis.usda.gov.

Codex Committee on Pesticide Residues

(Host Government—China).

U.S. Delegate

Lois Rossi, Director of Registration Division, Office of Pesticide Programs, U.S. Environmental Protection Agency, Ariel Rios Building, 1200 Pennsylvania Avenue, NW., Washington, DC 20460, Phone: (703) 305-5447, Fax: (703) 305-6920, E-mail: rossi.lois@epa.gov.

Alternate Delegate

Robert Epstein, Ph.D., Associate Deputy Administrator, Science and Technology, Agricultural Marketing Service, U.S. Department of Agriculture, P.O. Box 96456, Room 3522S, Mail Stop 0222, 1400 Independence Avenue, SW., Washington, DC 20090, Phone: (202) 720-5231, Fax: (202) 720-6496, E-mail: robert.epstein@usda.gov.

Codex Committee on Methods of Analysis and Sampling

(Host Government—Hungary).

U.S. Delegate

Gregory Diachenko, Ph.D., Director, Division of Product Manufacture and Use, Office of Premarket Approval, Center for Food Safety and Applied Nutrition (CFSAN), Food and Drug Administration (HFS-300), Harvey W. Wiley Federal Building, 5100 Paint Branch Parkway, College Park, MD 20740-3835, Phone: (301) 436-2387, Fax: (301) 436-2364, E-mail: gregory.diachenko@fda.hhs.gov.

Alternate Delegate

David B. Funk, Associate Director for Methods Development, USDA-GIPSA-Technical Services Division, 10383 N. Ambassador Dr., Kansas City, MO 64153, Phone: (816) 891-0473, Fax: (816) 891-0478, E-mail: David.b.funk@usda.gov.

Codex Committee on Food Import and Export Inspection and Certification Systems

(Host Government—Australia).

U.S. Delegate

Mary Stanley, Director, International Policy Division, Office of Policy and Program Development, Food Safety and Inspection Service, U.S. Department of Agriculture, Room 2925, South Agriculture Building, 1400 Independence Avenue, SW., Washington, DC 20250, Phone: (202) 720-0287, Fax: (202) 720-4929, E-mail: Mary.Stanley@fsis.usda.gov.

Alternate Delegate

H. Michael Wehr, Senior Advisor and Codex Program Coordinator, International Affairs Staff, Center for Food Safety and Applied Nutrition, 5100 Paint Branch Parkway (HFF-550), College Park, MD 20740, Phone: (301) 436-1724, Fax: (301) 436-2618, E-mail: Michael.wehr@fda.hhs.gov.

Codex Committee on General Principles

(Host Government—France).

U.S. Delegate

Note: A member of the Steering Committee heads the delegation to meetings of the General Principles Committee.

Codex Committee on Food Labeling

(Host Government—Canada).

U.S. Delegate

Barbara O. Schneeman, Ph.D., Director, Office of Nutritional Products, Labeling and Dietary Supplements, Center for Food Safety and Applied Nutrition, Food and Drug Administration, 5100 Paint Branch Parkway (HFS-800), College Park, MD 20740, Phone: (301) 436-2373, Fax: (301) 436-2636, E-mail: barbara.schneeman@fda.hhs.gov.

Alternate Delegate

Jeffrey Canavan, Deputy Director, Labeling and Program Delivery Division, Food Safety and Inspection Service, USDA, 5601 Sunnyside Ave., Stop 5273, Beltsville, MD 20705-5273, Phone: (301) 504-0860, Fax: (301) 504-0872, E-mail: Jeff.canavan@fsis.usda.gov.

Codex Committee on Food Hygiene

(Host Government—United States).

U.S. Delegate

Jenny Scott, Senior Advisor, Office of Food Safety, Food and Drug Administration, Center for Food Safety and Applied Nutrition, 5100 Paint Branch Parkway, HFS-300, Room 3B-014, College Park, MD 20740-3835, Phone: (301) 436-2166, Fax: (202) 436-2632, E-mail: Jenny.Scott@fda.hhs.gov.

Alternate Delegates

Kerry Dearfield, Ph.D., Scientific Advisor for Risk Assessment, Office of Public Health Science, Food Safety and Inspection Service, U.S. Department of Agriculture, 1400 Independence Avenue, SW., Room 380, Aerospace Center, Washington, DC 20250, Phone: (202) 690-6451, Fax: (202) 690-6337, E-mail: Kerry.Dearfield@fsis.usda.gov.

Dr. Joyce Saltsman, Interdisciplinary Scientist, Office of Food Safety (HFS-317), Center for Food Safety and Applied Nutrition, Food and Drug Administration, 5100 Paint Branch Parkway, College Park, MD 20740, Phone: (301) 436-1641, Fax: (301) 436-2651, E-mail: Joyce.Saltsman@fda.hhs.gov.

Codex Committee on Nutrition and Food for Special Dietary Uses

(Host Government—Germany).

U.S. Delegate

Barbara O. Schneeman, Ph.D., Director, Office of Nutritional Products, Labeling and Dietary Supplements, Center for Food Safety and Applied Nutrition, Food and Drug Administration, 5100 Paint Branch Highway (HFS-800), College Park, MD 20740, Phone: (301) 436-2373, Fax: (301) 436-2636, E-mail: barbara.schneeman@fda.hhs.gov.

Alternate Delegate

Allison Yates, Ph.D., Director, Beltsville Human Nutrition Research Center, Agricultural Research Service, U.S. Department of Agriculture, 10300 Baltimore Avenue, Bldg 307C, Room 117, Beltsville, MD 20705, Phone: (301) 504-8157, Fax: (301) 504-9381, E-mail: Allison.Yates@ars.usda.gov.

Worldwide Commodity Codex Committees

Codex Committee on Fresh Fruits and Vegetables:

(Host Government—Mexico).

U.S. Delegate

Dorian LaFond, International Standards Coordinator, Fruit and Vegetables Program, Agricultural Marketing Service, USDA, Room 2086, South Building, 1400 Independence Avenue, SW., Washington, DC 20250, Phone: (202) 690-4944, Fax: (202) 720-4722, E-mail: dorian.lafond@usda.gov.

Alternate Delegate

Dongmin Mu, Product Evaluation and Labeling Team, Food Labeling and Standards Staff, Office of Nutrition, Labeling and Dietary Supplements, Food and Drug Administration, 5100 Paint Branch Parkway, College Park, MD 20740, Tel: 301-436-1775, Fax: 301-436-2636, E-mail: dongmin.mu@fda.hhs.gov.

Codex Committee on Fish and Fishery Products:

(Host Government—Norway).

U.S. Delegate

Donald Kraemer, Acting Director, Office of Seafood, Center for Food Safety and Applied Nutrition, Food and Drug Administration, Harvey W. Wiley Federal Building, 5100 Paint Branch Parkway, College Park, MD 20740-3835, Phone: (301) 436-2300, Fax: (301) 436-2599, E-mail: donald.kraemer@fda.hhs.gov.

Alternate Delegate

Timothy Hansen, Director, Seafood Inspection Program, National Oceanic and Atmospheric Administration, Department of Commerce, Room 10837, 1315 East West Highway, Silver Spring, MD 20910, Phone: (301) 713-2355, Fax: (301) 713-1081, E-mail: Timothy.Hansen@noaa.gov.

Codex Committee on Cereals, Pulses and Legumes (adjourned sine die):

(Host Government—United States).

U.S. Delegate

Henry Kim, Ph.D., Supervisory Chemist, Division of Plant Product Safety, Office of Plant and Dairy Foods, Center for Food Safety and Applied Nutrition, Food and Drug Administration, 5100 Paint Branch Parkway, College Park, MD 20740, Phone: (301) 436-2023, Fax: (301) 436-2651, E-mail: henry.kim@ fda.hhs.gov.

Codex Committee on Milk and Milk Products (adjourned sine die)

(Host Government—New Zealand).

U.S. Delegate

Duane Spomer, Food Defense Advisor, Agricultural Marketing Service, U.S. Department of Agriculture, Room 1114, South Agriculture Building, 1400 Independence Avenue, SW., Washington, DC 20250, Phone: (202) 720-1861, Fax: (202) 205-5772, E-mail: duane.spomer@usda.gov.

Alternate Delegate

John F. Sheehan, Director, Division of Dairy and Egg Safety, Office of Plant and Dairy Foods and Beverages, Center for Food Safety and Applied Nutrition, Food and Drug Administration (HFS-306), Harvey W. Wiley Federal Building, 5100 Paint Branch Parkway, College Park, MD 20740, Phone: (301) 436-1488, Fax: (301) 436-2632, E-mail: john.sheehan@fda.hhs.gov.

Codex Committee on Fats and Oils

(Host Government—United Kingdom).

U.S. Delegate

Dennis M. Keefe, Ph.D., Office of Food Additive Safety, Center for Food Safety and Applied Nutrition, Food and Drug Administration (HFS-200), Harvey W. Wiley Federal Building, 5100 Paint Branch Parkway, College Park, MD 20740-3835, Phone: (301) 436-1284, Fax: (301) 436-2972, E-mail: dennis.keefe@fda.hhs.gov.

Alternate Delegate

Kathleen Warner, Agricultural Research Service, U.S. Department of Agriculture, 1815 N. University Street, Peoria, IL 61604, Phone: (309) 681-6584, Fax: (309) 681-6668, E-mail: warnerk@ncaur.usda.gov.

Codex Committee on Cocoa Products and Chocolate

(Host Government—Switzerland).

U.S. Delegate

Michelle Smith, Ph.D., Food Technologist, Office of Plant and Dairy Foods and Beverages, Center for Food Safety and Applied Nutrition, Food and Drug Administration (HFS-306), Harvey W. Wiley Federal Building, 5100 Paint Branch Parkway, College Park, MD 20740-3835, Phone: (301) 436-2024, Fax: (301) 436-2651, E-mail: michelle.smith@fda.hhs.gov.

Codex Committee on Sugars

(Host Government—United Kingdom).

U.S. Delegate

Martin Stutsman, J.D., Office of Plant and Dairy Foods and Beverages, Center for Food Safety and Applied Nutrition, Food and Drug Administration (HFS-306), Harvey W. Wiley Federal Building, 5100 Paint Branch Parkway, College Park, MD 20740-3835, Phone: (301) 436-1642, Fax: (301) 436-2651, E-mail: martin.stutsman@fda.hhs.gov.

Codex Committee on Processed Fruits and Vegetables

(Host Government—United States).

U.S. Delegate

Dorian LaFond, International Standards Coordinator, Fruit and Vegetable Division, Agricultural Marketing Service, USDA, Room 2086, South Agriculture Building, 1400 Independence Avenue, SW., Washington, DC 20250, Phone: (202) 690-4944, Fax: (202) 720-0016, E-mail: dorian.lafond@usda.gov.

Alternate Delegate

Paul South, Ph.D., Division of Plant Product Safety, Office of Plant and Dairy Foods, Center for Food Safety and Applied Nutrition, Food and Drug Administration, 5100 Paint Branch Parkway, College Park, MD 20740, Phone: (301) 436-1640, Fax: (301) 436-2561, E-mail: paul.south@fda.hhs.gov.

Codex Committee on Vegetable Proteins (adjourned sine die)

(Host Government—Canada).

U.S. Delegate

Dr. Wilda H. Martinez, Area Director, ARS North Atlantic Area, Agricultural Research Service, U.S. Department of Agriculture, 600 E. Mermaid Lane, Wyndmoor, PA 19038, Phone: (215) 233-6593, Fax: (215) 233-6719, E-mail: wmartinez@ars.usda.gov.

Codex Committee on Meat Hygiene (adjourned sine die)

(Host Government—New Zealand).

U.S. Delegate

Perfecto Santiago, D.V.M., Deputy Assistant Administrator, Office of Data Integration and Food Protection, Room 3130, South Agriculture Building, Food Safety and Inspection Service, U.S. Department of Agriculture, 1400 Independence Avenue, SW., Washington, DC 20250, Phone: (202) 205-0452, Fax: (202) 690-5634, E-mail: perfecto.santiago@fsis.usda.gov.

Codex Committee on Natural Mineral Waters:

(Host Government—Switzerland).

U.S. Delegate

Lauren Robin, Ph.D., Review Chemist, Office of Plant and Dairy Foods, Center for Food Safety and Applied Nutrition, Food and Drug Administration, Harvey W. Wiley Federal Building, 5100 Paint Branch Parkway, College Park, MD 20740-3835, Phone: (301) 436-1639, Fax: (301) 436-2651, E-mail: Lauren.Robin@fda.hhs.gov.

Ad Hoc Intergovernmental Task Forces

Ad Hoc Intergovernmental Task Force on Antimicrobial Resistance

(Host Government—Republic of Korea).

U.S. Delegate

David G. White, D.V.M., Director, National Antimicrobial Resistance, Monitoring System (NARMS), U.S. Food and Drug Administration, Center for Veterinary Medicine, Office of Research, 8401 Muirkirk Road, Laurel, MD 20708, Phone: (301) 210-4181, Fax: (301) 210-4685, E-mail: David.White@fda.hhs.gov.

Alternate Delegate

Neena Anandaraman, D.V.M., Veterinary Medical Officer, Zoonotic Diseases & Residue Surveillance Division, Office of Public Health Science, Food Safety and Inspection Service, U.S. Department of Agriculture, Room 343, Aerospace Center, Washington, DC 20250, Phone: (202) 690-6429, Fax: (202) 690-6565, E-mail: neena.anandaraman@fsis.usda.gov.

Ad Hoc Intergovernmental Task Force on Foods Derived From Modern Biotechnology

(Host Government—Japan)

(Dissolved).

Ad Hoc Intergovernmental Task Force on Quick Frozen Foods

(Host Government—Thailand)

(Dissolved).

Ad Hoc Intergovernmental Task Force on Animal Feeding

(Host Government—Denmark)

(Dissolved).

Ad hoc Codex Intertovernmental Task Force on Fruit and Vegetable Juices

(Host Government—Brazil)

(Dissolved).

There are six regional coordinating committees:

Coordinating Committee for Africa

Coordinating Committee for Asia

Coordinating Committee for Europe

Coordinating Committee for Latin America and the Caribbean

Coordinating Committee for the Near East

Coordinating Committee for North America and the Southwest Pacific

Contact

Karen Stuck, United States Manager for Codex, U.S. Department of Agriculture, Office of Food Safety, Room 4861, South Agriculture Building, 1400 Independence Avenue, SW., Washington, DC 20250-3700, Phone: (202) 205-7760, Fax: (202) 720-3157, E-mail: karen.stuck@osec.usda.gov.

[FR Doc. 2010-13403 Filed 6-3-10; 8:45 am]

BILLING CODE 3410-DM-P